DEPARTMENT OF COMMERCE

International Trade Administration

Export Trade Certificate of Review

ACTION: Notice of Application to Amend an Export Trade Certificate of Review.

SUMMARY: The Office of Export Trading Company Affairs (“OETCA”), International Trade Administration, Department of Commerce, has received an application to amend an Export Trade Certificate of Review (“Certificate”). This notice summarizes the proposed amendment and requests comments relevant to whether the amended Certificate should be issued.

FOR FURTHER INFORMATION CONTACT: Morton Schnabel, Director, Office of Export Trading Company Affairs, International Trade Administration, (202) 482-5131. This is not a toll-free number.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, Department of Commerce, Room 1104, Washington, D.C. 20230. Information submitted by any person is exempt from disclosure under the Freedom of Information Act (5 U.S.C. 552). However, nonconfidential versions of the comments will be made available to the applicant if necessary for determining whether or not to issue the Certificate. Comments should refer to this application as “Export Trade Certificate of Review, application number 91-A0002.”

The original Certificate was issued to the Automotive Service Industry Association (“ASIA”) on March 1, 1994 (59 FR 11775, March 14, 1994). ASIA consolidated with the Automotive Parts and Accessories Association to form the Automotive Aftermarket Industry Association. A summary of the application for an amendment follows.

Summary of the Application

Applicant: Automotive Aftermarket Industry Association (“AAIA”), 4600 East-West Highway, Suite 300, Bethesda, Maryland 20814.

Contact: George W. Keeley, General Counsel.

Telephone: (312) 782-1829.

Application No.: 91-A0002.

Date Deemed Submitted: February 23, 2000.

Proposed Amendment: AAIA seeks to amend its Certificate to:

1. Change the name of the Certificate holder cited in this paragraph to the new name cited in this paragraph in parentheses as follows: Automotive Service Industry Association (Automotive Aftermarket Industry Association);

2. Change the listing of the “Member” cited in this paragraph to the new listing cited in this paragraph in parentheses as follows: Triangle Auto Parts Co., Inc. (Triangle Auto Parts Co.); and

3. Delete the following companies as “Members” of the Certificate within the meaning of section 325.2(1) of the Regulations (15 C.F.R. 325.2(1): Federal Mogul Corporation; A.E. Clevite, Inc.; JS Products, Inc.; KSG Industries, Inc.; Kwik-Way Manufacturing, Inc.; and Sealed Power Division of Sealed Power Technologies Limited Partnership.

Dated: February 24, 2000.
Morton Schnabel,
Director, Office of Export Trading Company Affairs.

[FR Doc. 00-4802 Filed 2-28-00; 8:45 am]

BILLING CODE 3510-DR-P